DEPARTMENT OF ENERGY

Federal Energy Regulatory Commission

Combined Notice of Filings #1

Take notice that the Commission received the following electric corporate filings:

Docket Numbers: EC22-34-000.

Applicants: Consolidated Water Power Company, BillerudKorsnäs AB.

Description: Supplement to January 7, 2022 Joint Application for Authorization Under Section 203 of the Federal Power Act of Consolidated Water Power Company, et al.

Filed Date: 1/21/22.

Accession Number: 20220121-5014.

Comment Date: 5 p.m. ET 1/31/22.

Docket Numbers: EC22-37-000.

Applicants: Energy Center Dover LLC.

Description: Application for Authorization Under Section 203 of the Federal Power Act of Energy Center Dover LLC.

Filed Date: 1/21/22.

Accession Number: 20220121-5150.

Comment Date: 5 p.m. ET 2/11/22.

Docket Numbers: EC22-38-000.

Applicants: Otter Tail Power Company.

Description: Joint Application for Authorization Under Section 203 of the Federal Power Act of Otter Tail Power Company, et al.

Filed Date: 1/20/22.

Accession Number: 20220120-5186.

Comment Date: 5 p.m. ET 2/10/22.

Take notice that the Commission received the following electric rate filings:

Docket Numbers: ER22-740-000.

Applicants: GridLiance West LLC.

Description: Supplement to December 29, 2021 Annual Informational Filing of 2022 Projected Net Revenue Requirement and 2020 True-Up Adjustment of GridLiance West LLC.

Filed Date: 1/21/22.

Accession Number: 20220121-5129.

Comment Date: 5 p.m. ET 1/31/22.

Docket Numbers: ER22-857-000.

Applicants: Tri-State Generation and Transmission Association, Inc.

Description: § 205(d) Rate Filing: Initial Filing of Rate Schedule FERC No. 340 to be effective 1/19/2022.

Filed Date: 1/21/22.

Accession Number: 20220121-5053.

Comment Date: 5 p.m. ET 2/11/22.

Docket Numbers: ER22-858-000.

Applicants: Niagara Mohawk Power Corporation, New York Independent System Operator, Inc.

Description: § 205(d) Rate Filing: Niagara Mohawk Power Corporation submits tariff filing per 35.13(a)(2)(iii: 205: CRA between Niagara Mohawk and RG&E for Station 56 (SA 2680) to be effective 12/22/2021.

Filed Date: 1/21/22.

Accession Number: 20220121-5061.

Comment Date: 5 p.m. ET 2/11/22.

Docket Numbers: ER22-859-000.

Applicants: Southern California Edison Company.

Description: Tariff Amendment: Amended GIA DSA AM Wind Repower SA No 1061 1062 WDT1444 to be effective 3/23/2022.

Filed Date: 1/21/22.

Accession Number: 20220121-5068.

Comment Date: 5 p.m. ET 2/11/22.

Docket Numbers: ER22-860-000.

Applicants: Blackwell Wind, LLC.

Description: Tariff Amendment: Blackwell Wind, LLC Notice of Cancellation of Market-Based Rate Tariff to be effective 1/22/2022.

Filed Date: 1/21/22.

Accession Number: 20220121-5110.

Comment Date: 5 p.m. ET 2/11/22.

Docket Numbers: ER22-861-000.

Applicants: Crystal Lake Wind III, LLC.

Description: Tariff Amendment: Crystal Lake Wind III, LLC Notice of Cancellation of Market-Based Rate Tariff to be effective 1/22/2022.

Filed Date: 1/21/22.

Accession Number: 20220121-5113.

Comment Date: 5 p.m. ET 2/11/22.

Docket Numbers: ER22-862-000.

Applicants: Ensign Wind, LLC.

Description: Tariff Amendment: Ensign Wind, LLC Notice of Cancellation of Market-Based Rate Tariff to be effective 1/22/2022.

Filed Date: 1/21/22.

Accession Number: 20220121-5115.

Comment Date: 5 p.m. ET 2/11/22.

Docket Numbers: ER22-863-000.

Applicants: ISO New England Inc., New England Power Pool Participants Committee.

Description: § 205(d) Rate Filing: ISO New England Inc. submits tariff filing per 35.13(a)(2)(iii: ISO-NE and NEPOOL; Rev. Related to Non-Commercial Capacity Trading FA to be effective 3/22/2022.

Filed Date: 1/21/22.

Accession Number: 20220121-5118.

Comment Date: 5 p.m. ET 2/11/22.

Docket Numbers: ER22-865-000.

Applicants: Glaciers Edge Wind Project, LLC.

Description: § 205(d) Rate Filing: Reactive Power Rate Schedule Filing—Glaciers Edge Wind to be effective 4/1/2022.

Filed Date: 1/21/22.

Accession Number: 20220121-5144.

Comment Date: 5 p.m. ET 2/11/22.

Docket Numbers: ER22-866-000.

Applicants: Duke Energy Carolinas, LLC.

Description: § 205(d) Rate Filing: DEC—NCEMC—Revisions to Rate Schedule No. 273 to be effective 1/1/2021.

Filed Date: 1/21/22.

Accession Number: 20220121-5154.

Comment Date: 5 p.m. ET 2/11/22.

Docket Numbers: ER22-867-000.

Applicants: Long Ridge Retail Electric Supplier LLC.

Description: Baseline eTariff Filing: Application For Market Based Rate to be effective 1/22/2022.

Filed Date: 1/21/22.

Accession Number: 20220121-5168.

Comment Date: 5 p.m. ET 2/11/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 21, 2022.
Debbie-Anne A. Reese,
Deputy Secretary.

[FR Doc. 2022-01635 Filed 1-26-22; 8:45 am]

BILLING CODE 6717-01-P